DEPARTMENT OF COMMERCE

National Oceanic and Atmospheric Administration

Requesting Public Comment on Updated Framework for the National System of Marine Protected Areas

AGENCY: National Marine Protected Areas Center, Office of National Marine Sanctuaries, National Ocean Service, National Oceanic and Atmospheric Administration, U.S. Department of Commerce.

ACTION: Notice and request for public comments.

SUMMARY: The Department of Commerce and the Department of the Interior (DOI) jointly propose an updated Framework for the National System of Marine Protected Areas of the United States (Framework). The Framework is required by Executive Order 13158 on Marine Protected Areas (MPAs). This Framework provides overarching guidance for collaborative efforts among federal, state, commonwealth, territorial, tribal and local governments and stakeholders to implement an effective National System of MPAs (National System) from existing sites, build management capacity among MPA programs, coordinate collaborative efforts to address common management issues and identify ecosystem-based gaps in the protection of significant natural and cultural resources for possible future action by the nation's MPA authorities. The proposed draft document would update the previous version of the Framework, completed in November 2008, using experience gained implementing the National System and advice from the Marine Protected Areas Federal Advisory Committee and MPA programs.

DATES: Comments will be considered if received by December 26, 2014.

ADDRESSES: You may submit comments on this document, identified as NOAA-NOS-2014-0112, by any of the following methods:

• Electronic Submission: Submit all electronic public comments via the Federal e-Rulemaking Portal. Go to www.regulations.gov/#!docketDetail;D=NOAA-NOS-2014-0112, click the “Comment Now!” icon, complete the required fields, and enter or attach your comments.

• Mail: Submit written comments to National Marine Protected Areas Center, 1305 East West Highway, N/NMS, Silver Spring, Maryland 20910, Attn: Lauren Wenzel.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous). Attachments to electronic comments will be accepted in Microsoft Word, Excel, or Adobe PDF file formats only. The draft updated Framework is available for download at: http://marineprotectedareas.noaa.gov/.

FOR FURTHER INFORMATION CONTACT: Lauren Wenzel, Acting Director, National Marine Protected Areas Center, 301-713-7265 or lauren.wenzel@noaa.gov.

Copies of the updated Framework can be downloaded or viewed on the Internet at marineprotectedareas.noaa.gov. Copies can also be obtained by contacting the person identified under FOR FURTHER INFORMATION CONTACT.

SUPPLEMENTARY INFORMATION: The National Oceanic and Atmospheric Administration's (NOAA) National Marine Protected Areas Center (MPA Center), in cooperation with the Department of the Interior (DOI), completed the Framework for the National System of Marine Protected Areas of the United States (Framework) to meet requirements under Executive Order 13158 on Marine Protected Areas (Order) in November 2008. NOAA and DOI are now proposing to update this Framework to reflect five years of implementation experience as well as advice from MPA management agencies and the Marine Protected Areas Federal Advisory Committee. The purpose of this notice is to notify the public of the availability of the draft updated Framework for public comment.

MPAs are an effective tool for conserving marine resources, and have been implemented by a wide range of agencies in the United States to conserve biodiversity, restore ecosystem functions, conserve cultural resources and restore fisheries. When used effectively and in conjunction with other management tools, MPAs can help to ensure healthy Great Lakes and oceans by contributing to the overall protection of critical marine habitats and resources. In this way, effective MPAs can offer social and economic opportunities for current and future generations, such as tourism, biotechnology, fishing, education, and scientific research.

Executive Order 13158 calls for the creation of a National System of MPAs to “enhance the conservation of our Nation's natural and cultural marine heritage and the ecologically and economically sustainable use of the marine environment for future generations.” Established in November 2008, the National System provides a mechanism for MPA managers to: Voluntarily collaborate on shared management challenges; strengthen linkages among sites to enhance the management of marine resources; and build management capacity.

This proposed updated Framework is streamlined for greater clarity and readability, has an increased focus on the functions of the National System, and describes the role of the MPA Center in coordinating and supporting the National System. It also includes substantial revisions to the criteria for cultural resources, adding a criterion that allows MPAs created by tribes and indigenous people to be eligible for the National System.

Dated: October 21, 2014.
Daniel J. Basta,
Director, Office of National Marine Sanctuaries, National Ocean Service, National Oceanic and Atmospheric Administration.

[FR Doc. 2014-25448 Filed 10-24-14; 8:45 am]

BILLING CODE 3510-NK-P